INTERNATIONAL TRADE COMMISSION

[Investigation No. 731-TA-1658 (Final)]

Truck and Bus Tires From Thailand; Revised Schedule for the Subject Investigation

AGENCY: International Trade Commission.

ACTION: Notice.

DATES: June 20, 2024.

FOR FURTHER INFORMATION CONTACT: Peter Stebbins (202-205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective May 20, 2024, the Commission established a schedule for the conduct of the final phase of the subject investigation (89 FR 49903, June 12, 2024). The Commission is revising its schedule.

The Commission's revised dates in the schedule are as follows. The deadline for filing prehearing briefs is 5:15 p.m. on October 2, 2024; if a brief contains business proprietary information, a nonbusiness proprietary version is due the following business day. The prehearing conference will be held at the U.S. International Trade Commission Building at 9:30 a.m. on October 7, 2024, if deemed necessary, while the hearing will be held at the U.S. International Trade Commission Building at 9:30 a.m. on October 9, 2024.

For further information concerning this proceeding, see the Commission's notice cited above and the Commission's Rules of Practice and Procedure, part 201, subparts A through E (19 CFR part 201), and part 207, subparts A and C (19 CFR part 207).

Authority: This investigation is being conducted under authority of title VII of the Tariff Act of 1930; this notice is published pursuant to § 207.21 of the Commission's rules.

By order of the Commission.
Issued: June 18, 2024.
Lisa Barton,
Secretary to the Commission.

[FR Doc. 2024-13851 Filed 6-24-24; 8:45 am]

BILLING CODE 7020-02-P